DEPARTMENT OF DEFENSE

Department of the Navy

[Docket ID: USN-2013-0026]

Privacy Act of 1974; System of Records

AGENCY: Department of the Navy, DoD.

ACTION: Notice to alter a System of Records.

SUMMARY: The Department of the Navy proposes to alter a system of records, NM01640-1, Individual Confinement Records, in its inventory of record systems subject to the Privacy Act of 1974 (5 U.S.C. 552a), as amended. This system serves as a legal basis for confinement and correctional records.

DATES: This proposed action will be effective on August 13, 2013 unless comments are received which result in a contrary determination. Comments will be accepted on or before August 12, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on July 2, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 9, 2013.
Aaron Siegel,
Alternate OSD Federal Register Liaison Officer, Department of Defense.

NM01640-1

System name:

Individual Confinement Records (April 11, 2007, 72 FR 18216).

Changes:

* * * * *

System location:

Delete entry and replace with “United States Navy Brigs and United States Marine Corps Brigs.”

Official mailing addresses are published in the Standard Navy Distribution List (SNDL) that is available as an appendix to the Navy's compilation of system of records notices and/or may be obtained from the Director, Office of Corrections and Programs (PERS-00D), 5720 Integrity Drive, Millington, TN 38055-6000, and Commandant of the Marine Corps (PSL Corrections), Headquarters, U.S. Marine Corps, 755 South Courthouse Road, Suite 2000, Arlington, VA 22204-2478.”

Categories of individuals covered by the system:

Delete entry and replace with “Military members confined in a naval brig, shore or afloat, as a result of or pending trial by courts-martial; military members confined in a naval ship's brig while embarked on a naval vessel, awarded confinement on bread and water as a result of non-judicial punishment; and military members awarded correctional custody served in a correctional custody unit (CCU) as a result of non-judicial punishment.”

Categories of records in the system:

Delete entry and replace with “Documents related to the administration of individual prisoners/CCU awardees in Department of the Navy confinement or correctional custody processing facilities to include confinement orders; release orders; report of results of trial; initial review officer hearing documents; convening authority action; supplemental court martial orders; pre-trial agreements; medical examiners' reports; scars and marks sheets; face photos; requests and receipts for health and comfort supplies; reports and recommendations relative to disciplinary actions; clothing and equipment records; mail and visiting lists; personal history records; work and training reports; requests for interview; initial interview; observation and incident reports; parole and mandatory supervised release (MSR) agreements; inspection record of prisoner in segregation; personal funds records; valuables and property record; admission classification summary; background summary; programming and treatment records; clemency recommendations and actions; parole and MSR recommendations and actions; restoration recommendations and actions; psychiatric, psychological, and sociological reports; certificate of parole/MSR; certificate of release from parole/MSR; transfer records; records showing name, grade, Social Security Number (SSN), resident control number, gender, education, sentence, offense(s) and details of offenses, record of investigation, sentence computation, organization ethnic group, discharge awarded, prior punishments, length of service, and release details; reports showing legal status, offense charged, and length of time confined; DNA transaction records (no DNA results), sex offender acknowledgement/notification letters, and names, addresses, and telephone numbers of victims/witnesses.”

Authority for maintenance of the system:

Delete entry and replace with “10 U.S.C. 951, Military Correctional Facilities Establishment; Organization; Administration; 10 U.S.C. 5013, Secretary of the Navy; 10 U.S.C. 1565, DNA Identification Information; 42 U.S.C. 10601 et seq., Victim's Rights and Restitution Act of 1990 as implemented by DOD Instruction 1030.2, Victim and Witness Assistance Program; and E.O. 9397 (SSN), as amended.”

Purpose(s):

Delete entry and replace with “Serves as a legal basis for confinement/correctional custody and release; to determine initial custody classification and when custody grade change is appropriate; to gauge member's adjustment to confinement or correctional custody; to identify areas of particular concern to prisoners and personnel in correctional custody; to determine work assignment and educational needs; serves as a basis for correctional programs and treatment; and recommendations for clemency, restoration, and parole/MSR; to verify, record, and capture documentation of correctional public safety programs to include DNA collection; victim-witness assistance program notifications, and sex offender notification activities.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To federal, state, and local law enforcement and investigative agencies for investigation and possible criminal prosecution, civil court actions or regulatory orders.

To state and local authorities for providing (1) notification that individuals, who have been convicted of a specified sex offense or an offense against a victim who is a minor, will be residing in the state upon release from military confinement and (2) information about the individual for inclusion in a state operated sex offender registry.

To confinement/correctional system agencies for use in the administration of correctional programs, to include custody classification; employment, training and educational assignments; treatment programs; clemency, restoration to duty and parole/MSR actions; verifications concerning military offenders or military criminal records, employment records and social histories.

The DoD Blanket Routine Uses that appear at the beginning of the Navy's compilation of system of records notices may apply to this system.”

Policies and practices for storing, retrieving, accessing, retaining, and disposing of records in the system:

Storage:

Delete entry and replace with “Paper and electronic storage media.”

Retrievability:

Delete entry and replace with “Name and Resident Control Number.”

Safeguards:

Delete entry and replace with “Records are maintained in areas accessible only to authorized personnel who are properly screened, cleared, and trained. Automated case records are contained within the Corrections Information Management System (CORMIS) where individuals who have a need to know are provided access via a managed systems authorization access. Computer database is CAC-enabled. Paper case files contained within confinement and correctional custody facilities are accountable, secured within controlled areas, and only issued to individuals who have a need to know and authorized access.”

Retention and disposal:

Delete entry and replace with “Two years after a prisoner/CCU awardee is released or transferred from a brig/CCU or expiration of parole/MSR, prisoner/awardee paper records are transferred to the appropriate Federal Records Center below. Automated records are permanent.

Federal Records Center, 4712 Southpark Boulevard, Ellenwood, GA 30294 has records from afloat brigs under the area consideration of the Commander, U.S. Atlantic Fleet; and shore brigs under the consideration of the Commander, Navy Installations Command (Pre-trial Confinement Facility (PCF) Jacksonville, FL); Commander, Marine Corps Installations East (PCF Camp Lejeune, NC); and Commander, Navy Personnel Command (Naval Consolidated Brigs Chesapeake, VA, and Charleston, SC).

Federal Records Center, 23123 Cajalco Road, Perris, CA 92570-7298 has records for afloat brigs under the area consideration of the Commander, U.S. Pacific Fleet; and shore brigs under the consideration of the Commander, Marine Corps Installations West (PCF Camp Pendleton, CA); and Commander, Navy Personnel Command (Naval Consolidated Brig Miramar, CA and Naval Consolidated Brig Miramar Detachment Pearl Harbor, HI).

Records of prisoners accompany their transfer to other facilities.

Victim/Witness Records are maintained separately and are destroyed after two years.”

System manager(s) and address:

Delete entry and replace with “Policy Officials: Director, Office of Corrections and Programs (PERS-00D), 5720 Integrity Drive, Millington, TN 38055-6000, and Commandant of the Marine Corps (PSL Corrections), Headquarters, U.S. Marine Corps, 755 South Courthouse Road, Suite 2000, Arlington, VA 22204-2478.

Record Holders: United States Navy Brigs/CCUs and United States Marine Corps Brigs/CCUs.

Official mailing addresses are published in the Standard Navy Distribution List (SNDL) that is available as an appendix to the Navy's compilation of system of records notices or may be obtained from the Director, Office of Corrections and Programs (PERS-00D), 5720 Integrity Drive, Millington, TN 38055-6000, and Commandant of the Marine Corps (PSL Corrections), Headquarters, U.S. Marine Corps, 755 South Courthouse Road, Suite 2000, Arlington, VA 22204-2478.”

Notification procedures:

Delete entry and replace with “Individuals seeking to determine whether information about themselves is contained in this system should address written inquiries to the United States Navy Brig or United States Marine/Corps Brig where incarcerated.

Official mailing addresses are published in the Standard Navy Distribution List (SNDL) that is available as an appendix to the Navy's compilation of system of records notices or may be obtained Director, Office of Corrections and Programs (PERS-00D), 5720 Integrity Drive, Millington, TN 38055-6000, and Commandant of the Marine Corps (PSL Corrections), Headquarters, U.S. Marine Corps, 755 South Courthouse Road, Suite 2000, Arlington, VA 22204-2478.

Requests should include full name, last four digits of Social Security Number (SSN), and must be signed by the requesting individual. The system manager may require an original signature or a notarized signature as a means of proving the identity of the individual requesting access to the records.”

Record access procedures:

Delete entry and replace with “Individuals seeking access to information about themselves contained in this system of records should address written inquiries to the United States Navy Brig/CCU or United States Marine Corps Brig/CCU where incarcerated/assigned.

Official mailing addresses are published in the Standard Navy Distribution List (SNDL) that is available as an appendix to the Navy's compilation of system of records notices or may be obtained from the Director, Office of Corrections and Programs (PERS-00D), 5720 Integrity Drive, Millington, TN 38055-6000, and Commandant of the Marine Corps (PSL Corrections), Headquarters, U.S. Marine Corps, 755 South Courthouse Road, Suite 2000, Arlington, VA 22204-2478.

Requests should include full name, last four digits of Social Security Number (SSN), and must be signed by the requesting individual. The system manager may require an original signature or a notarized signature as a means of proving the identity of the individual requesting access to the records.”

* * * * *

[FR Doc. 2013-16745 Filed 7-11-13; 8:45 am]

BILLING CODE 5001-06-P